DEPARTMENT OF COMMERCE

International Trade Administration

[A-357-810, A-475-816, A-588-835, A-580-825, A-201-817]

Oil Country Tubular Goods from Argentina, Italy, Japan, Korea, and Mexico; Revocation of Antidumping Duty Orders Pursuant to Second Five-year (Sunset) Reviews

AGENCY: Import Administration, International Trade Administration, Department of Commerce.

SUMMARY: As a result of the determination by the International Trade Commission (“ITC”) that revocation of the antidumping duty orders on oil country tubular goods (“OCTG”) from Argentina, Italy, Japan, Korea, and Mexico would not be likely to lead to a continuation or recurrence of material injury to an industry in the United States within a reasonably foreseeable time, the Department of Commerce (“the Department”) is publishing this notice of revocation of these antidumping duty orders pursuant to sections 751(c) and (d)(2) of the Tariff Act of 1930, as amended (“the Act”).

EFFECTIVE DATE: June 22, 2007.

FOR FURTHER INFORMATION CONTACT: Martha Douthit or Fred Baker, AD/CVD Operations, Offices 6 and 7, Import Administration, International Trade Administration, U.S. Department of Commerce, 14th Street and Constitution Avenue, N.W., Washington, D.C. 20230; telephone (202) 482-5050 (Douthit), (202) 482-2924 (Baker).

SUPPLEMENTARY INFORMATION:

Background

On August 11, 1995, the Department published the AD orders on OCTG from Argentina, Italy, Japan, Korea, and Mexico. See Antidumping Dumping Duty Order: Oil Country Tubular Goods from Argentina, 60 FR 41055 (August 11, 1995); Antidumping Duty Order: Oil Country Tubular Goods from Italy, 60 FR 41057 (August 11, 1995), Antidumping Duty Order: Oil Country Tubular Goods from Japan, 60 FR 41058 (August 11, 1995), Antidumping Duty Order: Oil Country Tubular Goods from Korea, 60 FR 41057 (August 11, 1995), Antidumping Duty Order: Oil Country Tubular Goods from Mexico, 60 FR 41056 (August 11, 1995).

On June 1, 2006, the Department initiated and the ITC instituted sunset reviews of the AD orders on oil country tubular goods from Argentina, Italy, Japan, Korea, and Mexico. See Initiation of Five-year (“Sunset”) Reviews, 71 FR 31153 (June 1, 2006); and Oil Country Tubular Goods from Argentina, Italy, Japan, Korea, and Mexico, 71 FR 31207 (June 1, 2006). As a result of the sunset reviews of these AD orders, the Department found that revocation would be likely to lead to the continuation or recurrence of dumping. See Oil Country Tubular Goods from Argentina, Italy, Japan, and Korea, Final Results of Five-year (“Sunset”) Reviews of Antidumping Duty Orders, 71 FR 59074 (October 6, 2006); and Oil Country Tubular Goods from Mexico; Final Results of Five-year (“Sunset”) Review, 72 FR 24563 (May 3, 2007). Pursuant to 752(c) of the Act, the Department notified the ITC of the likely continuation of dumping by manufacturers, producers, and exporters of OCTG in Argentina, Italy, Japan, Korea, and Mexico, and the magnitude of the margin of dumping likely to prevail were the AD orders revoked.

On May 31, 2007, the ITC determined pursuant to section 751(c) of the Act that revocation of the AD orders on OCTG from Argentina, Italy, Japan, Korea, and Mexico, would not be likely to lead to continuation or recurrence of material injury to an industry in the United States within a reasonably foreseeable time. See Oil Country Tubular Goods from Argentina, Italy, Japan, Korea, and Mexico, USITC Publication 3923, Investigation Nos. 731-711, 713-716 (Review) (June 2007). The ITC notified the Department of this determination on June 18, 2007.

Scope of the Orders

Argentina, Italy, Korea, And Mexico:

OCTG are hollow steel products of circular cross-section, including oil well casing and tubing of iron (other than cast iron) or steel (both carbon and alloy), whether seamless or welded, whether or not conforming to American Petroleum Institute (API) or non-API specifications, whether finished or unfinished (including green tubes and limited service OCTG products). This scope does not cover casing or tubing pipe containing 10.5 percent or more of chromium. OCTG subject to these orders are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Drill pipe was excluded from the orders for OCTG from Mexico and Argentina, effective August 11, 2000. See Continuation of Countervailing and Antidumping Duty Orders on Oil Country Tubular Goods From Argentina, Italy, Japan, Korea and Mexico, and Partial Revocation of Those Orders From Argentina and Mexico With Respect to Drill Pipe, 66 FR 38630 (July 25, 2001). The HTSUS subheadings are provided for convenience and customs purposes. Our written description of the scope of these orders is dispositive.

Japan:

The merchandise covered by this order consists of oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the HTSUS under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and customs purposes. Our written description of the scope of these orders is dispositive.

Determination

As a result of the determination by the ITC that revocation of these AD orders are not likely to lead to continuation or recurrence of material injury to an industry in the United States, the Department is revoking these orders, pursuant to section 751(d) of the Act. Pursuant to section 751(d)(3) of the Act and 19 CFR 351.222(i)(2)(i), the effective date of revocation is July 25, 2006, (i.e., the fifth anniversary of the date of publication in the Federal Register of the notice of continuation of these AD orders). See Continuation of Countervailing and Antidumping Duty Orders on Oil Country Tubular Goods From Argentina, Italy, Japan, Korea and Mexico, and Partial Revocation of Those Orders From Argentina and Mexico With Respect to Drill Pipe, 66 FR 38630 (July 25, 2001).

The Department will notify U.S. Customs and Border Protection to discontinue suspension of liquidation and collection of cash deposits on entries of the subject merchandise entered or withdrawn from warehouse on or after July 25, 2006, the effective date of revocation of these AD orders. The Department will complete any pending administrative reviews of these orders and will conduct administrative reviews of subject merchandise entered prior to the effective date of revocation in response to appropriately filed requests for review.

This five-year sunset review and notice are in accordance with section 751(d)(2) and published pursuant to section 777(i)(1) of the Tariff Act.

Dated: June 18, 2007.
David M. Spooner,
Assistant Secretary for Import Administration.

[FR Doc. E7-12120 Filed 6-21-07; 8:45 am]

BILLING CODE 3510-DS-S